DEPARTMENT OF DEFENSE

Department of the Navy

Meeting of the Chief of Naval Operations (CNO) Executive Panel; Correction

AGENCY: Department of the Navy, DoD.

ACTION: Notice of closed meeting; correction.

SUMMARY: The Department of the Navy published a document in the Federal Register of May 25, 2005, announcing a closed meeting of the CNO Executive Panel. The document contained incorrect date and time.

FOR FURTHER INFORMATION CONTACT: Lieutenant Commander Christopher Corgnati, CNO Executive Panel, 4825 Mark Center Drive, Alexandria, VA 22311, (703) 681-4909.

Correction

In the Federal Register of May 25, 2005, in FR Doc. 05-10399, on page 30090, in the first column, correct the DATES caption to read:

DATES: The meeting will be held on Wednesday, June 15, 2005, from 9:30 a.m. to 10:30 a.m.

Dated: June 3, 2005.
S. K. Melancon,
Paralegal Specialist, Office of the Judge Advocate General, Alternate Federal Register Liaison Officer.

[FR Doc. 05-11446 Filed 6-7-05; 8:45 am]

BILLING CODE 3810-FF-P